DEPARTMENT OF LABOR

Employee Benefits Security Administration

164th Meeting of the Advisory Council on Employee Welfare and Pension Benefit Plans; Notice of Meeting

Pursuant to the authority contained in Section 512 of the Employee Retirement Income Security Act of 1974 (ERISA), 29 U.S.C. 1142, the 164th open meeting of the Advisory Council on Employee Welfare and Pension Benefit Plans (also known as the ERISA Advisory Council) will be held on November 26-27, 2012. This meeting originally was scheduled for October 30-31, but has been re-scheduled due to the threat of severe weather.

The meeting will take place in C5521 Room 4, U.S. Department of Labor, 200 Constitution Avenue NW., Washington, DC 20210 on November 26, from 1 p.m. to approximately 5:00 p.m. On November 27, the meeting will start at 8:30 a.m. and conclude at approximately 4:00 p.m., with a break for lunch. The morning session on November 27 will be in Suite 400 at 122 C Street NW. The afternoon session on November 27 will take place in Room S-2508 at the same address. The purpose of the open meeting on November 26 and the morning of November 27 is for the Advisory Council members to finalize the recommendations they will present to the Secretary. At the November 27 afternoon session, the Council members will receive an update from the Assistant Secretary of Labor for the Employee Benefits Security Administration (EBSA) and present their recommendations.

The Council recommendations will be on the following issues: (1) Current Challenges and Best Practices Concerning Beneficiary Designations in Retirement and Life Insurance Plans; (2) Examining Income Replacement During Retirement Years in a Defined Contribution Plan System; and (3) Managing Disability Risks in an Environment of Individual Responsibility. Descriptions of these topics are available on the Advisory Council page of the EBSA Web site at http://www.dol.gov/ebsa/aboutebsa/erisa_advisory_council.html.

Organizations or members of the public wishing to submit a written statement may do so by submitting 30 copies on or before November 19, 2012 to Larry Good, Executive Secretary, ERISA Advisory Council, U.S. Department of Labor, Suite N-5623, 200 Constitution Avenue NW., Washington, DC 20210. Statements also may be submitted as email attachments in text or pdf format transmitted to good.larry@dol.gov. It is requested that statements not be included in the body of an email. Statements deemed relevant by the Advisory Council and received on or before November 19 will be included in the record of the meeting and made available in the EBSA Public Disclosure Room. Do not include any personally identifiable information (such as name, address, or other contact information) or confidential business information that you do not want publicly disclosed.

Individuals or representatives of organizations wishing to address the Advisory Council should forward their requests to the Executive Secretary or telephone (202) 693-8668. Oral presentations will be limited to ten minutes, time permitting, but an extended statement may be submitted for the record. Individuals with disabilities who need special accommodations should contact the Executive Secretary by November 19, 2012 at the address indicated.

Signed at Washington, DC this 26th day of October, 2012.
Michael L. Davis,
Deputy Assistant Secretary, Employee Benefits Security Administration.

[FR Doc. 2012-26875 Filed 11-1-12; 8:45 am]

BILLING CODE 4510-29-P